DEPARTMENT OF LABOR

Employment and Training Administration

[TA-W-52,201]

Meridian Beartrack Company, A Subsidiary of Meridian Gold, Inc., Salmon, ID; Notice of Termination of Investigation

Pursuant to section 221 of the Trade Act of 1974, as amended, an investigation was initiated on July 1, 2003 in response to a petition filed by a company official on behalf of workers at Meridian Beartrack Company, a subsidiary of Meridian Gold Inc., Salmon, Idaho.

The petitioning group of workers is covered by an active certification issued on August 20, 2001 and which remains in effect (TA-W-39,474). Consequently, further investigation in this case would serve no purpose, and the investigation has been terminated.

Signed at Washington, DC this 7th day of July, 2003.
Linda G. Poole,
Certifying Officer, Division of Trade Adjustment Assistance.

[FR Doc. 03-18551 Filed 7-21-03; 8:45 am]

BILLING CODE 4510-30-P